DEPARTMENT OF ENERGY

Federal Energy Regulatory Commission

[Project No. 14999-000]

Notice of Preliminary Permit Application Accepted for Filing and Soliciting Comments, Motions To Intervene, and Competing Applications; Four Lakes Task Force

On June 20, 2019, Four Lakes Task Force filed an application for a preliminary permit, pursuant to section 4(f) of the Federal Power Act, proposing to study the feasibility of the Edenville Dam Hydroelectric Project located on the Tittabawassee and Tobacco River system approximately one mile north of Edenville, in Gladwin and Midland Counties, Michigan. The sole purpose of a preliminary permit, if issued, is to grant the permit holder priority to file a license application during the permit term. A preliminary permit does not authorize the permit holder to perform any land-disturbing activities or otherwise enter upon lands or waters owned by others without the owners' express permission.

The project is located immediately upstream of the confluence of Tittabawassee and Tobacco rivers and would consist of the following facilities: (1) A 6-square-mile, 40,000 acre-feet at normal maximum surface elevation of 676.1 National Geodetic Vertical Datum 29 (NGVD29) existing reservoir (Wixom Lake); (2) a 6,200.0-foot-long existing earthen gravity dam with a minimum crest elevation of 682.1 feet NGVD29 including: (i) a 625.0-foot-long left (south-east) embankment; (ii) a 68.6-foot-wide spillway containing two 20.0-foot-wide by 9.5-foot-high steel Tainter gates and one 23.6-foot-wide by 9.5-foot-high steel Tainter gate each with a sill elevation of 667.8 feet NGVD29; (iii) a 50.5-foot-wide, 114.7-foot-long existing concrete and steel powerhouse containing two 2.4 megawatts (MW) turbine-generators; (iv) a 3,428.7-foot-long center section embankment; (v) a 60.0-foot-wide, 60.0-foot-long new concrete and steel powerhouse containing one 1.2 MW turbine-generator; (vi) a 72.2-foot-wide spillway containing two 23.6-foot-wide by 9.5-foot-high steel Tainter gates and one 20.0-foot-wide by 9.5-foot-high steel Tainter gate each with a sill elevation of 667.8 feet NGVD29; and (vii) a 1,895.0-foot-long right (west) embankment; (3) a 50.6 to 65.0-foot-wide, 47.0-foot-long tailrace; (4) an 800-foot-long, 2.3 kilovolt existing transmission line conveying the project power to Edenville Dam Substation owned by Consumers Energy; and (5) appurtenant facilities. The proposed project would have an annual generation of 21,000 megawatt-hours.

Applicant Contact: David E. Kepler, II, Four Lakes Task Force, 233 E. Larkin St., Suite 2, Midland, MI 48640; phone: (989) 636-7701.

FERC Contact: Sergiu Serban; phone: (202) 502-6211.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14999-000.

More information about this project, including a copy of the application, can be viewed or printed on the “eLibrary” link of the Commission's website at http://www.ferc.gov/docs-filing/elibrary.asp. Enter the docket number (P-14999) in the docket number field to access the document. For assistance, contact FERC Online Support.

Dated: September 18, 2019.
Kimberly D. Bose,
Secretary.

[FR Doc. 2019-20628 Filed 9-23-19; 8:45 am]

BILLING CODE 6717-01-P